DEPARTMENT OF COMMERCE

National Institute of Standards and Technology

[Docket No.: 040709204-4204-01]

Opportunity for Public To View Fire Test of Floor System as Part of the Federal Building and Fire Safety Investigation of the World Trade Center Disaster

AGENCY: National Institute of Standards and Technology, Department of Commerce.

ACTION: Opportunity for public to view fire test of World Trade Center floor system.

SUMMARY: The National Institute of Standards and Technology announces the opportunity for the public to view the fire test of a floor system as part of the federal building and fire safety investigation of the World Trade Center disaster. The test will be conducted by Underwriters Laboratories, Northbrook, Illinois, on August 25, 2004.

DATES: The test is scheduled to be conducted on August 25, 2004, at Underwriters Laboratories in Northbrook, Illinois. A preliminary briefing will be given at 9 a.m., followed by a viewing of the test furnace and floor specimen. A conference room has been set up to view the test remotely, including video and temperature data. The test is scheduled to be completed by 5 p.m. Members of the public wishing to view the test will need to submit their request to attend by 5 p.m. e.d.t. on Wednesday, August 4, 2004, per the instructions under the SUPPLEMENTARY INFORMATION section of this notice. NIST will inform selected attendees if the test is re-scheduled for a later date.

ADDRESSES: The test will be conducted at the facilities of Underwriters Laboratories in Northbrook, Illinois. Requests to attend the test must be submitted to Mr. Stephen Cauffman, National Institute of Standards and Technology, 100 Bureau Drive, Mail Stop 8611, Gaithersburg, MD 20899-8611, or via e-mail (WTC@NIST.gov) or fax (301-975-4052).

FOR FURTHER INFORMATION CONTACT: Mr. Stephen Cauffman. Mr. Cauffman's e-mail address is cauffman@nist.gov, and his phone is 301-975-6051.

SUPPLEMENTARY INFORMATION: The National Institute of Standards and Technology (NIST) began its building and fire safety investigation of the World Trade Center (WTC) disaster in September 2002. This WTC Investigation, led by NIST, is conducted under the authority of the National Construction Safety Team Act (Pub. L. 107-231, codified at 15 U.S.C. 7301 et seq.).

Objectives of the WTC Investigation

The objectives of the NIST-led Investigation are to:

1. Determine why and how WTC 1 and WTC 2 collapsed following the initial impacts of the aircraft and why and how WTC 7 collapsed.

2. Determine why the injuries and fatalities were so high or low depending on location, including all technical aspects of fire protection, occupant behavior, evacuation, and emergency response.

3. Determine what procedures and practices were used in the design, construction, operation, and maintenance of WTC 1, 2, and 7.

4. Identify, as specifically as possible, areas in current building and fire codes, standards, and practices that warrant revision.

Resistance-to-Fire Testing

To aid in the analysis of the response of the WTC towers to fires, Underwriters Laboratories, under a contract from NIST, is carrying out fire endurance testing of a typical floor system and individual steel members under the fire conditions prescribed in the ASTM E119 standard test. There will be an opportunity for interested individuals to view the fire test scheduled to be conducted August 25, 2004, at Underwriters Laboratories in Northbrook, IL.

A preliminary briefing will be given at 9 a.m., followed by a viewing of the test furnace and floor specimen. A conference room has been set up to view the test remotely, including video and temperature data. The test is scheduled to be completed by 5 p.m. NIST will inform selected attendees if the test is re-scheduled for a later date.

Requests To Attend

Up to thirty people will be selected to attend the resistance-to-fire floor system test based upon the following factors:

• Balanced representation of a broad group of interests, including the engineering profession, public interest groups and families of victims, emergency responders, standards and code making organizations, and media outlets; and

• Time of receipt of request within each group.

To request an opportunity to attend, NIST must receive the following information via mail to Mr. Stephen Cauffman, National Institute of Standards and Technology, 100 Bureau Drive, Mail Stop 8611, Gaithersburg, MD 20899-8611 or via e-mail (WTC@NIST.gov) or fax (301-975-4052) no later than 5 p.m. (e.d.t.) on August 4, 2004:

• Name and contact information of individual who will be attending;

• Name and complete address of organization(s) that individual represents; and

• Specific group of interest (from above list).

Responses to all requests will be mailed, faxed and/or e-mailed, based upon the information provided to NIST, on August 9, 2004. NIST will also inform selected attendees if the test is re-scheduled for a later date.

Dated: July 18, 2004.
Hratch G. Semerjian,
Acting Director.

[FR Doc. 04-16893 Filed 7-23-04; 8:45 am]

BILLING CODE 3510-13-P